DEPARTMENT OF ENERGY

Federal Energy Regulatory Commission

Combined Notice of Filings

Take notice that the Commission has received the following Natural Gas Pipeline Rate and Refund Report filings:

Filings in Existing Proceedings

Docket Numbers: R22-67-001.

Applicants: Comanche Trail Pipeline, LLC.

Description: Amendment Filing: Comanche Trail Pipeline, LLC Amended SOC Effective 10/1/2022 to be effective 10/1/2022.

Filed Date: 11/18/22.

Accession Number: 20221118-5097.

Comment Date: 5 p.m. ET 12/9/22.

284.123(g) Protest: 5 p.m. ET 1/17/23.

Docket Numbers: PR22-68-001.

Applicants: Trans-Pecos Pipeline, LLC.

Description: Amendment Filing: Trans-Pecos Pipeline, LLC Amended SOC Effective 10/1/2022 to be effective 10/1/2022.

Filed Date: 11/18/22.

Accession Number: 20221118-5118.

Comment Date: 5 p.m. ET 12/9/22.

284.123(g) Protest: 5 p.m. ET 1/17/23.

Any person desiring to protest in any the above proceedings must file in accordance with Rule 211 of the Commission's Regulations (18 CFR 385.211) on or before 5:00 p.m. Eastern time on the specified comment date.

Filings Instituting Proceedings

Docket Numbers: PR23-7-000.

Applicants: ONEOK WesTex Transmission, L.L.C.

Description: § 284.123(g) Rate Filing: Rate Revision and Update to Periodic Rate Review to be effective 12/1/2022.

Filed Date: 11/17/22.

Accession Number: 20221117-5166.

Comment Date: 5 p.m. ET 12/8/22.

284.123(g) Protest: 5 p.m. ET 1/16/23.

Docket Numbers: PR23-8-000.

Applicants: Louisville Gas and Electric Company.

Description: § 284.123(g) Rate Filing: Revised Statement of Operating Conditions Exhibit A to be effective11/1/2022.

Filed Date: 11/18/22.

Accession Number: 20221118-5102.

Comment Date: 5 p.m. ET 12/9/22.

284.123(g) Protest: 5 p.m. ET 1/17/23.

Docket Numbers: RP23-196-000.

Applicants: East Tennessee Natural Gas, LLC.

Description: § 4(d) Rate Filing: Negotiated Rate—Eastman to OPC Release to be effective 11/17/2022.

Filed Date: 11/17/22.

Accession Number: 20221117-5163.

Comment Date: 5 p.m. ET 11/29/22.

Docket Numbers: RP23-197-000.

Applicants: Stagecoach Pipeline & Storage Company LLC.

Description: § 4(d) Rate Filing: Stagecoach Pipeline & Storage Company LLC—EQT Energy, LLC SP382179 to be effective 12/1/2022.

Filed Date: 11/18/22.

Accession Number: 20221118-5050.

Comment Date: 5 p.m. ET 11/30/22.

Docket Numbers: RP23-198-000.

Applicants: Tampa Electric Company, Peoples Gas System.

Description: Joint Petition for Temporary Limited Waivers of Capacity Release Regulations, et al. of Tampa Electric Company, et al.

Filed Date: 11/18/22.

Accession Number: 20221118-5063.

Comment Date: 5 p.m. ET 11/30/22.

Docket Numbers: RP23-199-000.

Applicants: Southern Star Central Gas Pipeline, Inc.

Description: Compliance filing: Annual Cash-Out Activity Report 2022 to be effective N/A.

Filed Date: 11/18/22.

Accession Number: 20221118-5069.

Comment Date: 5 p.m. ET 11/30/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2022.
Kimberly D. Bose,
Secretary.

[FR Doc. 2022-25716 Filed 11-23-22; 8:45 am]

BILLING CODE 6717-01-P